DEPARTMENT OF TRANSPORTATION

Federal Railroad Administration

[Docket No. FRA-2020-0027-N-22]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified in the ICRs.

DATES: Interested persons are invited to submit comments on or before November 16, 2020.

ADDRESSES: Submit comments and recommendations for the proposed ICRs to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Identification of Railroad Cars.¹

¹ FRA makes a revision to the title of OMB Control Number 2130-0506 (formerly titled Identification of Cars Moved in Accordance with Order 13528).

OMB Control Number: 2130-0506.

Abstract: The collection of information is associated with 49 CFR 232.3(d), formerly contained in Interstate Commerce Commission (ICC) Order 13528. Paragraph (d)(3) of 49 CFR 232.3 conditionally excepts certain export, industrial, and other cars not owned by a railroad from part 232 compliance. It requires cars to be identified by a card attached to each side of the equipment, signed by the shipper, specifically noting that the car is being moved under the proper authority. Railroads typically use carrier bad order forms or tags for these purposes. These forms are readily available from all carrier repair facilities. If a car moving under 49 CFR 232.3(d)(3) is not properly tagged, a carrier is not legally allowed to move the car. Section 232.3(d)(3) does not require carriers or shippers to retain cards or tags. When a car bearing tags for movement under this provision arrives at its destination, the tags are removed. FRA estimates approximately 400 cars per year, each bearing two forms/tags, are moved under this regulation.

Type of Request: Extension without change of a currently approved collection.

Affected Public: Businesses.

Form(s): N/A.

Respondent Universe: 765 railroads.

Frequency of Submission: On occasion.

Reporting Burden:

CFR section ² | Respondent universe | Total annual responses | Average time per responses | Total annual burden hours | Total cost equivalent 3 4
232.3(d)—Cars moved in Accordance with ICC Order 13528—Tagging | 765 railroads | 800 tags | 5 minutes | 67 hours | $3,886
² The requesting inventory estimates a total burden of 67, the same as the current inventory.
³ The dollar equivalent cost throughout this document is derived from the Surface Transportation Board's Full Year Wage A&B data series using the appropriate employee group hourly wage rate that includes a 75-percent overhead charge.
⁴ The hourly wage rate used is $77 per hour ($33.37 * 1.75 = $58).

Total Estimated Annual Responses: 800.

Total Estimated Annual Burden: 67 hours.

Total Estimated Annual Burden Hour Dollar Cost Equivalent: $3,886.

Title: U.S. Locational Requirement for Dispatching U.S. Rail Operations.

OMB Control Number: 2130-0556.

Abstract: 49 CFR part 241 requires, in the absence of a waiver, that all dispatching of railroad operations occurring in the United States be performed in the United States. A railroad may, however, conduct dispatching from Mexico or Canada in an emergency situation, but only for the duration of the emergency situation. A railroad relying on this exception must provide written notification of its action to FRA as soon as practicable; such notification is not required before addressing the emergency situation. The information collected under this rule is used as part of FRA's oversight function to ensure that extraterritorial dispatchers comply with applicable safety regulations.

Type of Request: Extension without change of a currently approved collection.

Affected Public: Businesses.

Form(s): N/A.

Respondent Universe: 4 railroads.

Frequency of Submission: On occasion.

Reporting Burden:

CFR section ⁵ | Respondent universe | Total annual responses | Average time per responses | Total annual burden hours | Total cost equivalent ⁶
241.9(c)—Written notification to FRA of emergency where dispatcher outside the U.S. dispatches a railroad operation in the U.S. for the duration of the emergency | 4 railroads | 1 notice | 8 hours | 8 hours | $616
⁵ Note: The requesting inventory estimates a total burden of 8, the same as the current inventory.
⁶ The hourly wage rate used is $77 per hour ($44.27 * 1.75 = $77).

Total Estimated Annual Responses: 1.

Total Estimated Annual Burden: 8 hours.

Total Estimated Annual Burden Hour Dollar Cost Equivalent: $616.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-20386 Filed 9-15-20; 8:45 am]

BILLING CODE 4910-06-P